CORPORATION FOR NATIONAL AND COMMUNITY SERVICE

Information Collection; Submission for OMB Review; Comment Request

AGENCY: Corporation for National and Community Service.

ACTION: Notice.

SUMMARY: The Corporation for National and Community Service (hereinafter the “Corporation”), has submitted a public information collection request (ICR) to the Office of Management and Budget (OMB) for review and approval in accordance with the Paperwork Reduction Act of 1995, Public Law 104-13, (44 U.S.C. Chapter 35). Copies of this ICR, with applicable supporting documentation, may be obtained by calling the Corporation for National and Community Service, Ms. Rochelle Barry, at (404) 331-4646, extension 2, (RBarry@cns.gov); (TTY/TDD) at (202) 606-5256 between the hours of 8 a.m. and 4 p.m. Eastern Standard Time, Monday through Friday.

ADDRESSES: Comments may be submitted, identified by the title of the information collection activity, to the Office of Information and Regulatory Affairs, Attn: Ms. Katherine Astrich, OMB Desk Office for the Corporation for National and Community Service, by any of the following two methods within 30 days from the date of publication in this Federal Register.

(1) By fax to: (202) 395-6974, Attention: Ms. Katherine Astrich, OMB Desk Officer for the Corporation for National and Community Service; and

(2) Electronically by e-mail to: Katherine_T._Astrich@omb.eop.gov.

The initial 60-day Federal Register Notice for the Martin Luther King, Jr. Day of Service Grant Application Instructions was published on April 8, 2008. This comment period ended on June 7, 2008; no comments were received.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Type of Review: Regular.

Agency: Corporation for National and Community Service.

Title: Martin Luther King, Jr. Day of Service Application Instructions.

OMB Number: None.

Agency Number: None.

Affected Public: Organizations who are interested applying for a Martin Luther King, Jr. Day of Service grant.

Total Respondents: 80.

Frequency: Once a year.

Average Time per Response: Ten (10) hours.

Estimated Total Burden Hours: 800 hours.

Total Burden Cost (capital/startup): None.

Total Burden Cost (operating/maintenance): None.

Description: The purpose of these Martin Luther King, Jr. Day of Service Grants is to mobilize more Americans to observe the Martin Luther King, Jr. Federal Holiday as a day of service in communities and to bring people together around the common focus of service to others. The Corporation will award these funds to eligible applicants who will in turn subgrant to eligible local organizations or fund separate events to plan and carry out service activities.

Dated: August 1, 2008.
Mark Abbott,
Senior Advisor to the Chief Operating Officer.

[FR Doc. E8-18755 Filed 8-12-08; 8:45 am]

BILLING CODE 6050-$$-P